DEPARTMENT OF HOMELAND SECURITY

Coast Guard

33 CFR Part 165

[Docket No. USCG-2022-0534]

Safety Zones; Annual Events in the Captain of the Port Buffalo Zone—July-August 2022

AGENCY: Coast Guard, DHS.

ACTION: Notification of enforcement of regulation.

SUMMARY: The Coast Guard will enforce certain safety zones located in the federal regulations for Annual Events in the Captain of the Port Buffalo Zone. This action is necessary and intended to protect the safety of life and property on navigable waters prior to, during, and immediately after these events. During each enforcement period, no person or vessel may enter the respective safety zone without the permission of the Captain of the Port Buffalo or a designated representative.

DATES: The regulations in 33 CFR 165.939 as listed in Table 165.939 will be enforced for the safety zones identified in the SUPPLEMENTARY INFORMATION section below for the dates and times specified.

FOR FURTHER INFORMATION CONTACT: If you have questions about this notification of enforcement, contact LT Justin Miller, Chief of Waterways Management, Sector Buffalo, U.S. Coast Guard; telephone 716-843-9391, email D09-SMB-SECBuffalo-WWM@uscg.mil.

SUPPLEMENTARY INFORMATION: The Coast Guard will enforce the Safety Zones; Annual Events in the Captain of the Port Buffalo Zone listed in the table to 33 CFR 165.939 for the following events:

i. Brewerton Fireworks, Brewerton, NY; The safety zone listed in Table 165.939 as (b)(19) will be enforced on all waters of Lake Oneida, Brewerton, NY within a 840-foot radius of position 43°14′16.4″ N, 076°08′03.6″ W, from 9:15 p.m. through 10:45 p.m. on July 03, 2022.

ii. Island Festival Fireworks, Baldwinsville, NY; The safety zone listed in Table 165.939 as (b)(21) will be enforced on all waters of the Seneca River, Baldwinsville, NY within a 1,120-foot radius of position 43°09′22.0″ N, 076°20′15″ W, from 10:00 p.m. through 10:45 p.m. on July 01, 2022.

iii. City of Erie 4th of July Fireworks, Erie, PA; The safety zone listed in (b)(31) will be enforced on all waters of the Lake Erie, Erie, PA within a 280-foot radius of position 42°08′17.13″ N, 080°05′30.17″ W, from 9:45 p.m. through 10:45 p.m. on July 03, 2022.

iv. Ski Show Sylvan Beach, Sylvan Beach, NY; The safety zone listed in (c)(5) will be enforced on all waters where Fish Creek meets Oneida Lake starting at position 43°11′36.6″ N, 75°43′53.8″ W then South to 43°11′33.7″ N, 75°43′51.2″ W then East to 43°11′42.4″ N, 75°43′38.6″ W then North to 43°11′44.5″ N, 75°43′39.7″ W then returning to the point of origin, from 10:30 a.m. through 08:15 p.m. on August 14, 2022.

Pursuant to 33 CFR 165.23, entry into, transiting, or anchoring within these safety zones during an enforcement period is prohibited unless authorized by the Captain of the Port Buffalo or his designated representative; designation need not be in writing. Those seeking permission to enter these safety zones may request permission from the Captain of the Port Buffalo via channel 16, VHF-FM. Vessels and persons granted permission to enter the safety zone shall obey the directions of the Captain of the Port Buffalo or his designated representative. While within a safety zone, all vessels shall operate at the minimum speed necessary to maintain a safe course.

In addition to this notice of enforcement in the Federal Register, the Coast Guard will provide the maritime community with advance notification of the enforcement periods via Broadcast Notice to Mariners or other suitable means. If the Captain of the Port Buffalo determines that the safety zone need not be enforced for the full duration stated in this notice, he may use a Broadcast Notice to Mariners to grant general permission to enter the respective safety zone.

Dated: June 23, 2022.
M.I. Kuperman,
Captain, U.S. Coast Guard, Captain of the Port Buffalo.

[FR Doc. 2022-14007 Filed 6-29-22; 8:45 am]

BILLING CODE 9110-04-P